DEPARTMENT OF COMMERCE

National Oceanic and Atmospheric Administration

[RTID 0648-XC162]

Caribbean Fishery Management Council; Public Meeting

AGENCY: National Marine Fisheries Service (NMFS), National Oceanic and Atmospheric Administration (NOAA), Commerce.

ACTION: Notice of a public hybrid (in person/virtual) meeting

SUMMARY: The Caribbean Fishery Management Council's (Council) Scientific and Statistical Committee (SSC) will hold a two-day public hybrid meeting to address the items contained in the tentative agenda included in the SUPPLEMENTARY INFORMATION.

DATES: The SSC two-day public hybrid meeting will be held on August 1, 2022, from 10 a.m. to 5 p.m. and August 2, 2022, from 10 a.m. to 5 p.m. The two-day meeting will be at Atlantic Standard Time (AST).

ADDRESSES:

Meeting address: The meeting will be held at the Courtyard by Marriott Isla Verde Resort, at 7012 Boca de Cangrejos Avenue, Carolina, Puerto Rico 00979.

You may join the SSC two-day public hybrid meeting via Zoom by entering the following address: https://us02web.zoom.us/j/87345855856?pwd=SDc1V1NIK24xcEF0Zlhud0lTNlcvdz09

Meeting ID: 873 4585 5856

Passcode: 793249

One tap mobile

+19399450244,,87345855856#,,,,*793249# Puerto Rico

+17879451488,,87345855856#,,,,*793249# Puerto Rico

Dial by your location

+1 939 945 0244 Puerto Rico

+1 787 945 1488 Puerto Rico

+1 787 966 7727 Puerto Rico

+1 312 626 6799 US (Chicago)

+1 346 248 7799 US (Houston)

+1 646 558 8656 US (New York)

+1 669 900 9128 US (San Jose)

+1 253 215 8782 US (Tacoma)

+1 301 715 8592 US (Washington DC)

Meeting ID: 873 4585 5856

Passcode: 793249

Find your local number: https://us02web.zoom.us/u/kKUpZ2IPc

In case there are problems and we cannot reconnect via Zoom, the meeting will continue via GoToMeeting. You may join from a computer, tablet or smartphone by entering the following address: https://meet.goto.com/474688061.

You can also dial in using your phone.

United States: +1 (872) 240-3212

Access Code: 474-688-061

Join from a video-conferencing room or system.

Dial in or type: 67.217.95.2 or inroomlink.goto.com

Meeting ID: 474 688 061

Or dial directly: 474688061@67.217.95.2 or 67.217.95.2##474688061

Get the app now and be ready when the first meeting starts: https://meet.goto.com/install

FOR FURTHER INFORMATION CONTACT: Miguel Rolón, Executive Director, Caribbean Fishery Management Council, 270 Muñoz Rivera Avenue, Suite 401, San Juan, Puerto Rico 00918-1903, telephone: (787) 766-5926.

SUPPLEMENTARY INFORMATION: The following items included in the tentative agenda will be discussed:

August 1, 2022

10 a.m.-10:15 a.m.

—Call to Order

—Roll Call

—Approval of Verbatim Transcriptions

—Adoption of Agenda

10:15 a.m.-12:30 p.m.

—SEDAR 80 Queen Triggerfish Assessments (Puerto Rico, St. Thomas/St. John, St. Croix)—SEFSC

12:30 p.m.-1:30 p.m.

—Lunch

1:30 p.m.-3 p.m.

—SEDAR 80 Queen Triggerfish Assessment (continuation)

—Discussion

3 p.m.-3:15 p.m.

—Break

3:15 p.m.-5 p.m.

—SSC Recommendations to CFMC

August 2, 2022

10 a.m.-11 a.m.

—Continue Discussion and Recommendations to CFMC

—SEDAR-Stock Assessment Matrix—Kevin McCarthy, SEFSC

11 a.m.-12 p.m.

—Southeast Fishery Science Center (SEFSC) Caribbean Branch Update

—SSC Recommendations to CFMC

—Island-Based Fishery Management Plan and Amendments Update—María López-Mercer, SERO/NOAA Fisheries

—AM triggered for spiny lobster in Puerto Rico: July 12-September 30 2022 EEZ closure

—National SSC Update—Richard Appeldoorn, J.J. Cruz Motta

—Case Study 8: Multivariate approaches for EBFM implementation in the U.S. Caribbean

—SSC Recommendations to CFMC

12 p.m.-1 p.m.

—Lunch

1 p.m.-3 p.m.

—Discussion: SSC Research Plan Recommendations to CFMC

3 p.m.-3:15 p.m.

—Break

3:15 p.m.-5 p.m.

—Outreach and Education Advisory Panel Update—Alida Ortiz

—Finalize Research Priorities and Recommendations to CFMC

—SSC Recommendations to the CFMC

—Other Business

—Adjourn

The order of business may be adjusted as necessary to accommodate the completion of agenda items. The SSC two-days public hybrid meeting will begin on August 1, 2022, at 10 a.m. AST, and will end on August 2, 2022, at 5 p.m., AST. Other than the start time, interested parties should be aware that discussions may start earlier or later than indicated, at the discretion of the Chair. In addition, the meeting may be completed prior to the date established in this notice.

Special Accommodations

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: July 8, 2022.
Tracey L. Thompson,
Acting Deputy Director, Office of Sustainable Fisheries, National Marine Fisheries Service.

[FR Doc. 2022-14993 Filed 7-13-22; 8:45 am]

BILLING CODE 3510-22-P